DEPARTMENT OF TRANSPORTATION

Federal Aviation Administration

14 CFR Part 97

[Docket No. 30352; Amdt. No. 3043]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective February 11, 2003. The compliance date for each SIAP is specified in the amendatory provisions.

The incorporation by reference of certain publications listed in the regulations is approved by the Director of the Federal Register as of February 11, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of the Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Dated: Issued in Washington, DC on January 31, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, AND 97.35 [Amended]

By amending: § 97.23 VOR, VOR/DME, VOR or TACAN, and VOR/VME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.23RNAV SIAPs; and § 97.35 COPTER SIAPs, identified as follows:

Effective February 20, 2003

Franklin, VA, Franklin Muni-John Beverly Rose, VOR RWY 9, Amdt 14B

Franklin, VA, Franklin Muni-John Beverly Rose, VOR/DME RWY 27, Amdt 9C

Effective March 20, 2003

Bullhead City, AZ Laughlin/Bullhead Intl, RNAV (GPS) RWY 16, Orig

Bullhead City, AZ Laughlin/Bullhead Intl, RNAV (GPS) RWY 34, Orig

Bullhead City, AZ Laughlin/Bullhead Inti, GPS RWY 34, Orig-A, CANCELLED

Palmdale, CA, Palmdale Production Flt/Test Instln AF Plant 42, RNAV (GPS) RWY 25, Orig

Washington, DC, Washington Dulles International, ILS RWY 1L, Orig

Washington, DC, Washington Dulles International, ILS RWY 12, Amdt 7

Washington, DC, Washington Dulles International, ILS RWY 19L, Amdt 11

Washington, DC, Washington Dulles International, ILS RWY 19R, Amdt 22

Washington, DC, Washington Dulles International, ILS/DME RWY 1L, Amdt 5A, CANCELLED

Washington, DC, Washington Dulles International, CONVERGING ILS RWY 12, Amdt 4

Washington, DC, Washington Dulles International, CONVERGING ILS RWY 19L, Amdt 5

Washington, DC, Washington Dulles International, CONVERGING ILS RWY 19R, Amdt 5

Washington, DC, Washington Dulles International, RNAV (GPS) RWY 1L, Orig

Washington, DC, Washington Dulles International, RNAV (GPS) RWY 1R, Orig

Washington, DC, Washington Dulles International, RNAV (GPS) Y RWY 12, Orig

Washington, DC, Washington Dulles International, RNAV (GPS) Z RWY 12, Orig

Washington, DC, Washington Dulles International, RNAV (GPS) RWY 19L, Orig

Washington, DC, Washington Dulles International, RNAV (GPS) RWY 19R, Orig

Daytona Beach, FL, Daytona Beach Intl, VOR OR GPS RWY 16, Amdt 18

Daytona Beach, FL, Daytona Beach Intl, NDB OR GPS RWY 7L, Amdt 26

Daytona Beach, FL, Daytona Beach Intl, RADAR-1 Amdt, 8

Daytona Beach, FL, Daytona Beach Intl, RNAV (GPS) RWAY 34, Orig

Tampa, FL, Vandenberg, LOC RWY 23, Orig

Rexburg, ID, Rexburg-Madison county, VOR RWY 35, Amdt 4

Bay St. Louis, MS, Stennis Intl, NDB RWY 18, Amdt 1

Bay St. Louis, MS, Stennis Intl, ILS RWY 18, Orig

Olive Branch, MS, Olive Branch, LOC RWY 18, Amdt 1, CANCELLED

Olive Branch, MS, Olive Branch, ILS RWY 18, Orig

Omaha, NE, Eppley Airfield, NDB RWY 14R, Amdt 24D

Omaha, NE, Eppley Airfield, ILS RWY 14R, Amdt 3

Omaha, NE Eppley Airfield, ILS RWY 18, Amdt 7

Omaha, NE, Eppley Airfield, RNAV (GPS) RWY 14R, Orig

Omaha, NE, Eppley Airfield, RNAV (GPS) RWY 18, Orig

Omaha, NE, Eppley Airfield, RNAV (GPS) RWY 32L, Orig

Omaha, NE, Eppley Airfield, RNAV (GPS) RWY 36, Orig

Omaha, NE, Eppley Airfield, GPS RWY 32L, Orig-A, CANCELLED

Morristown, NJ, Morristown Muni, RNAV (GPS) 5, Orig

Angel Fire, NM, Angel Fire, RNAV (GPS) RWY 17, Amdt 1

Montauk, MY, Montauk, RNAV (GPS) RWY 24, Orig

Plattsburgh, NY, Plattsburgh Intl, ILS RWY 17, Amdt 1

Plattsburgh, NY, Plattsburgh Intl, RNAV (GPS) RWY 17, Orig

Plattsburgh, NY, Plattsburgh Intl, RNAV (GPS) RWY 35, Qrig

Hickory, NC, Hickory Regional, RNAV (GPS) RWY 1, Orig

Hickory, NC, Hickory Regional, RNAV (GPS) RWY 6, Orig

Hickory, NC, Hickory Regional, RNAV (GPS) RWY 19, Orig

Hickory, NC, Hickory Regional, RNAV (GPS) RWY 24, Orig

Hickory, NC, Hickory Regional, GPS RWY 24 Orig, CANCELLED

Mount Pocono, PA, Pocono Mountains Muni, VOR RWY 13, Amdt 6

Mount Pocono, PA, Pocono Mountains Muni, RNAV (GPS) RWY 13, Orig

Amarillo, TX, Amarillo Intl, RNAV (GPS) RWY 13, Orig

Amarillo, TX, Amarillo Intl, RNAV (GPS) RWY 31, Orig

Amarillo, TX, Amarillo Intl, GPS RWY 13, Orig-A, CANCELLED

Amarillo, TX, Amarillo Intl, GPS RWY 31, Orig-A, CANCELLED

Highgate, VT, Franklin County State, VOR/DME RWY 19, Amdt 3

Highgate, VT, Franklin County State, RNAV (GPS) RWY 1, Orig

Highgate, VT, Franklin County State, GPS RWY 1, Orig, CANCELLED

The FAA published an Amendment in Docket No. 30350, Amdt. No. 3041 to Part 97 of the Federal Aviation Regulations (Vol. 68 FR No. 17, page 3811: dated January 27, 2003) under section 97.33 effective March 20, 2003, which is hereby amended to change effective date to read:

23 Jan 03:

Naples, FL, Naples Muni, RNAV (GPS), RWY 05, Amdt 1

[FR Doc. 03-3269 Filed 2-10-03; 8:45 am]

BILLING CODE 4910-13-M